DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: State-by-State Self Assessment of Trauma Care Systems—Reinstatement (OMB No. 0915-0259)

HRSA proposes to collect data from the 56 States and Territories on their current trauma care systems to assess progress since the initial survey in fiscal year 2002. This information will be used to establish a national strategy to assist in future grant opportunities to the States to improve or enhance their basic systems infrastructure in trauma care delivery, as well as their collection and usage of quality trauma data.

HRSA will be collaborating with partners from within HRSA's Healthcare Systems Bureau, Division of Healthcare Preparedness (DHP), Bioterrorism Hospital Preparedness Program; HRSA's Office of Rural Health Policy; and HRSA's Maternal and Child Health Bureau. In addition, HRSA will collaborate with the Office of Public Health Emergency Preparedness; the Agency for Healthcare Research and Quality; the Centers for Disease Control and Prevention's Center for Injury Prevention and Control; the National Highway Traffic and Safety Administration's Emergency Medical Services (EMS) Division; and affiliated professional organizations through the DHP Trauma Program's National Trauma-EMS Stakeholder Group. HRSA has included national performance measures for Trauma/EMS for this project in accordance with the requirements of the “Government Performance and Results Act (GPRA) of 1993” (Public Law 103-62). This Act requires the establishment of measurable goals for Federal programs that can be reported as part of the budgetary process, thus linking funding decisions with performance.

The estimated response burden is as follows:

Type of form | Number of respondents | Responses per respondent | Burden hours per response | Total burden hours
Self Assessment questionnaire | 56 | 1 | 10 | 560
Total | 56 |  |  | 560

Send comments to Susan G. Queen, Ph.D., HRSA Reports Clearance Officer, Room 14-33, Parklawn Building, 5600 Fishers Lane, Rockville, MD 20857. Written comments should be received within 60 days of this notice.

Dated: November 29, 2004.
Tina M. Cheatham,
Director, Division of Policy Review and Coordination.

[FR Doc. 04-27199 Filed 12-10-04; 8:45 am]

BILLING CODE 4165-15-P